DEPARTMENT OF TRANSPORTATION

Federal Transit Administration

[FTA Docket No. FTA 2024-0005]

Agency Information Collection Activity Under OMB Review: FTA Program Evaluation for Processes and Outcomes

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before August 9, 2024.

ADDRESSES: Written comments and recommendations for the proposed information collection should be sent within 30 days of publication of this notice to https://www.reginfo.gov/public/do/PRAMain. Find this particular information collection by selecting “Currently under Review—Open for Public Comments” or by using the search function.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590 (202) 366-0354 or tia.swain@dot.gov.

SUPPLEMENTARY INFORMATION: The Paperwork Reduction Act of 1995 (PRA), Public Law 104-13, section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On December 7, 2023, FTA published a 60-day notice (88 FR 85357) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: FTA Program Evaluation for Processes and Outcomes.

OMB Control Number: 2132-NEW INFORMATION COLLECTION REQUEST.

Background: The Foundations for Evidence-Based Policymaking Act of 2018 (the Evidence Act) requires Federal agencies to develop evidence to support policymaking. Federal agencies, including FTA, must systematically collect and analyze data to assess the effectiveness and efficiency of their programs through evaluation. According to the Evidence Act, “an evaluation is an assessment, using systematic data collection and analysis, of one or more programs, policies, and/or organizations intended to assess their effectiveness and efficiency.” Evidence resulting from evaluations and other evidence-building activities should be used to inform leaders about whether Federal programs and activities are achieving their intended results and contribute to improved use of data and evidence-based decision making.

To effectively evaluate programs, FTA needs to collect data directly from program participants, such as State Departments of Transportation (DOTs), Metropolitan Planning Organizations (MPOs), Transit Authorities, State and Local Government Units, and Indian Tribes, to understand their experiences and benefits of program participation. Participants may be engaged through surveys or focus groups to collect relevant data. The Office of Management and Budget (OMB) and the Government Accountability Office (GAO) strongly advocate for stakeholder engagement in evaluation design. OMB's M-19-23 Memorandum emphasizes that engaging stakeholders enhances the utility of evaluation findings to improve program effectiveness.

To ensure alignment with ongoing efforts, this information request seeks to support the FTA in meeting the Evidence Act's requirements and contribute to FTA's broader framework of evidence-based decision-making. This is a voluntary data and information collection, with no participation requirement to receive Federal benefits. The survey portion of this information collection differs from other similar efforts, such as the FTA Stakeholder Survey which targets grant recipients and inquires on customer satisfaction with a range of FTA services and knowledge of rulemaking. Current and previous information collections for grant applicants and grantees to provide routine program planning and metrics on plans and deliverables are separate from this collection. Rather, this information collection will allow FTA decision makers to understand challenges and barriers to program implementation, identify opportunities for improving program communications and outreach, and make stronger linkages between program progress and outcomes.

The summary provided below has been updated since the publication of the 60-Day Federal Register Notice. The estimated annual respondents and number of responses have changed to reflect the current number of program participants for each representative FTA program as of April 2024. The estimated total burden was also updated to reflect this change in the estimated number of respondents, as well as a change to the estimated time per information collection based on the results of pilot testing.

Respondents: State Departments of Transportation (DOTs) and Metropolitan Planning Organizations (MPOs), Transit Authorities, States, and Local Government Units, Indian Tribes.

Estimated Annual Respondents: 1,380 respondents.

Estimated Annual Number of Responses: 2,070 responses.

Estimated Total Annual Burden: 2,180 hours.

Frequency: Annual.

Kusum Dhyani,
Director, Office of Management Planning.

[FR Doc. 2024-15126 Filed 7-9-24; 8:45 am]

BILLING CODE 4910-57-P